DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Census 2000 Content Reinterview Survey.

Form Number(s): D-1010.

Agency Approval Number: None.

Type of Request: New collection.

Burden: 20,000 hours.

Number of Respondents: 30,000.

Avg. Hours Per Response: 20 minutes.

Needs and Uses: As part of its plan to evaluate the quality of data collected in the Census 2000, the Census Bureau plans to conduct the Census 2000 Content Reinterview Survey (CRS). The evaluation of the quality of data collected in the Census 2000 is important for both data users and census planners. Data users must have knowledge of the accuracy and reliability of the data in order to make informed decisions about how errors in the data may affect the conclusions they draw from analyzing the data. Census planners require similar information to develop and test methods to improve the overall quality of the data produced in future censuses.

The purpose of the CRS is twofold. First, it will be used to estimate response variance for most items on the census long form. To measure response variance, the reinterview will re-ask the same set of questions applying, to the extent possible, similar survey procedures and replicating a similar set of conditions. Secondly, the reinterview will be used to make historical comparisons to previous studies of census content error.

Affected Public: Individuals or households.

Frequency: One-time.

Respondent's Obligation: Mandatory.

Legal Authority: Title 13 U.S.C., Sections 141 and 193.

OMB Desk Officer: Susan Schechter, (202) 395-5103.

Copies of the above information collection proposal can be obtained by calling or writing Linda Engelmeier, DOC Forms Clearance Officer, (202) 482-3272, Department of Commerce, room 5027, 14th and Constitution Avenue, NW, Washington, DC 20230 (or via the Internet at LEngelme@doc.gov).

Written comments and recommendations for the proposed information collection should be sent within 30 days of publication of this notice to Susan Schechter, OMB Desk Officer, room 10201, New Executive Office Building, Washington, DC 20503.

Dated: March 16, 2000.
Linda Engelmeier,
Departmental Forms Clearance Officer, Office of the Chief Information Officer.

[FR Doc. 00-7136 Filed 3-22-00; 8:45 am]

BILLING CODE 3510-07-P